DEPARTMENT OF EDUCATION

Notice Extending the Application Deadline for Fiscal Year 2015 Awards; Impact Aid Section 8002 Grant Program

AGENCY: Office of Elementary and Secondary Education, Department of Education.

ACTION: Notice.

Catalog of Federal Domestic Assistance (CFDA) Number: 84.041A.

SUMMARY: The Secretary extends to April 30, 2014, the deadline date for the submission of applications for fiscal year (FY) 2015 awards under the Impact Aid Section 8002 Grant Program. Impact Aid regulations specify that the annual application deadline is January 31. However, the Secretary extends this deadline because of application changes necessitated by amendments in the FY 2013 National Defense Appropriation Act, and the time needed to implement subsequent technology upgrades to the application package.

FOR FURTHER INFORMATION CONTACT: Robin Robinson, U.S. Department of Education, 400 Maryland Avenue SW., Washington, DC 20202-6244. Telephone: (202) 260-3858 or by email: Impact.Aid@ed.gov.

If you use a telecommunications device for the deaf (TDD) or a text telephone (TTY), call the Federal Relay Service (FRS), toll free, at 1-800-877-8339.

DATES:

Applications Available: March 4, 2014.

Deadline for Transmittal of Applications: April 30, 2014.

The Secretary will also accept and approve for payment any otherwise approvable application that is received on or before (1) the 60th calendar day after April 30, 2014, which is June 30, 2014, or (2) the 60th calendar day after the Secretary provides written notice via email to a local educational agency that applied in the previous year but did not apply by April 30, 2014.

Consistent with section 8005 of the Impact Aid statute, as well as the program regulations at 34 CFR 222.6(b)(2), any applicant submitting an application after April 30, 2014, but within the timeframe referenced above, will have its payment reduced by 10 percent of the amount it would have received had its application been filed by April 30, 2014.

Deadline for Intergovernmental Review: June 30, 2014.

Full Text of Announcement

I. Application and Submission Information

1. Address to Request Application Package: You can obtain an electronic application via the Internet at: www.G5.gov. For assistance, please contact the Impact Aid Program, U.S. Department of Education, 400 Maryland Avenue SW., Washington, DC 20202-6244. Telephone: (202)260-3858, Fax: 1-866-799-1272, or by email: Impact.Aid@ed.gov.

If you use a TDD or a TTY, call the FRS, toll free, at 1-800-877-8339.

2. Content and Form of Application Submission: Requirements concerning the content of an application, together with the forms you must submit, are in the application package for this competition.

3. Submission Dates and Times:

Applications Available: March 4, 2014.

Deadline for Transmittal of Applications: April 30, 2014.

The Secretary will also accept and approve for payment any otherwise approvable application that is received on or before (1) the 60th calendar day after April 30, 2014, which is June 30, 2014, or (2) the 60th day after the Secretary provides written notice via email to a local educational agency that applied in the previous year but did not apply by the April 30, 2014 deadline.

Consistent with section 8005 of the Impact Aid statute, as well as the program regulations at 34 CFR 222.6(b)(2), any applicant submitting an application after April 30, 2014, but within the timeframe referenced above, will have its payment reduced by 10 percent of the amount it would have received had its application been filed by April 30, 2014.

Applications for grants under this competition must be submitted electronically using G5, the Department's grant management system, accessible through the Department's G5 site.

Deadline for Intergovernmental Review: June 30, 2014.

4. Intergovernmental Review: This competition is subject to Executive Order 12372 and the regulations in 34 CFR part 79. Information about Intergovernmental Review of Federal Programs under Executive Order 12372 is in the application package for this competition.

5. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

7. Other Submission Requirements:

While completing your electronic application, you will be entering data online that will be saved into a database. You may not email an electronic copy of a grant application to us. We will also reject your application if you submit it in paper format.

Please note the following:

• You must complete the electronic submission of your grant application before midnight, Washington, DC time, on the application deadline date. G5 will not accept an application for this competition after 11:59:59 p.m., Washington, DC time, on the application deadline date. Therefore, we strongly recommend that you do not wait until the application deadline date to begin the application process.

• The hours of operation of the G5 Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the G5 Web site.

• You must submit all documents electronically, including all information you typically provide on the following forms: the Application for Section 8002 and all necessary signature pages.

• You must upload any supporting documentation to your application as files in a PDF (Portable Document) read-only, non-modifiable format. Do not upload an interactive or fillable PDF file. If you upload a file type other than a read-only, non-modifiable PDF or submit a password protected file, we will not review that material.

• Before submitting your electronic application, you may wish to print a copy of it for your records.

• After you electronically submit your application, you will receive an automatic acknowledgment.

• By the application deadline date, you must fax or email a signed copy of the cover page and the assurances for the Section 8002 application to the Impact Aid Program, following these steps:

(1) Print a copy of the application from G5 for your records.

(2) The applicant's Authorizing Representative must sign and date the cover page and assurances page. These forms must be submitted by the application deadline in order to be considered for funding under this program.

(3) Fax or email the signed cover page and assurances page for the Section 8002 application to the Impact Aid Program at 1-866-799-1272 or by email to Impact.Aid@ed.gov. These forms must be submitted before midnight, Washington, DC time, of the application deadline in order to be considered for funding under this program.

• We may request that you provide us original signatures on other forms at a later date.

Application Deadline Date Extension in Case of G5 System Unavailability: If you are prevented from electronically submitting your application on the application deadline date because the G5 system is unavailable, we will grant you an extension until midnight, Washington, DC time, the following business day to enable you to transmit your application electronically. We will grant this extension if—

(1) You are a registered user of the G5 system and you have initiated an electronic application for this competition; and

(2) (a) G5 is unavailable for 60 minutes or more between the hours of 8:30 a.m. and 11:00 p.m., Washington, DC time, on the application deadline date; or

(b) G5 is unavailable for any period of time between 11:00 p.m. and midnight, Washington, DC time, on the application deadline date.

We must acknowledge and confirm these periods of unavailability before granting you an extension. To request this extension or to confirm our acknowledgment of any system unavailability, you may contact either (1) the office listed elsewhere in this notice under FOR FURTHER INFORMATION CONTACT or (2) the G5 help desk at 1-888-336-8930. If G5 is unavailable due to technical problems with the system and, therefore, the application deadline is extended, an email will be sent to all registered users who have initiated a G5 application. Extensions referred to in this section apply only to the unavailability of the G5 system.

II. Waiver of Rulemaking

Section 222.3 of CFR Title 34, which establishes the annual January 31 Impact Aid application deadline, is currently in effect. However, due to application changes necessitated by amendments in the FY 2013 National Defense Authorization Act (Pub. L. 112-239) and the related revision, production, and distribution of the application packages, the Secretary extends the deadline for the transmittal of applications under section 8002 for FY 2015.

Because this amendment makes a procedural change for this year only as a result of unique circumstances, proposed rulemaking is not required under 5 U.S.C. 553(b)(A).

In addition, the Secretary has waived rulemaking under 5 U.S.C. 553(b)(3) for this one-time suspension of the regulatory deadline date because it would be impracticable and contrary to the public interest. It would be impracticable because Section 8002 applicants need to be able to submit an FY 2015 application as soon as possible after January 31, 2014, to receive funding for their 2014-2015 school year on a timely basis. The months required for rulemaking would make it impossible for districts to receive this annual funding in a timely manner. Rulemaking would also be contrary to the public interest because the Department's ability to make FY 2015 payments would be stalled, thus affecting school districts in their planning and provision of services.

III. Other Information

Accessible Format: Individuals with disabilities can obtain this document and a copy of the application package in an accessible format (e.g., braille, large print, audiotape, or compact disc) on request to the program contact listed under FOR FURTHER INFORMATION CONTACT.

Accommodation or Auxiliary Aid: Individuals with disabilities who need an accommodation or auxiliary aid in connection with the application process should contact the office listed under FOR FURTHER INFORMATION CONTACT. If the Department provides an accommodation or auxiliary aid to an individual with a disability in connection with the application process, the individual's application remains subject to all other requirements and limitations in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 7702

Dated: March 19, 2014.
Deborah S. Delisle,
Assistant Secretary for Elementary and Secondary Education.

[FR Doc. 2014-06389 Filed 3-21-14; 8:45 am]

BILLING CODE 4000-01-P